ENVIRONMENTAL PROTECTION AGENCY

40 CFR Part 51

[EPA-HQ-OAR-2012-0393; FRL-9800-8]

RIN 2060-AQ38

Air Quality: Revision to Definition of Volatile Organic Compounds—Exclusion of trans 1-chloro-3,3,3-trifluoroprop-1-ene [Solstice™ 1233zd(E)]

AGENCY: Environmental Protection Agency (EPA).

ACTION: Withdrawal of direct final rule.

SUMMARY: EPA published a direct final rule, Air Quality: Revision to Definition of Volatile Organic Compounds—Exclusion of trans 1-chloro-3,3,3-trifluoroprop-1-ene [Solstice™ 1233zd(E)], on February 15, 2013, and a parallel proposed rule to revise the definition of volatile organic compounds (VOCs) for purposes of preparing state implementation plans (SIPs) to attain the national ambient air quality standards (NAAQS) for ozone under title I of the Clean Air Act (CAA). The direct final action added trans 1-chloro-3,3,3-trifluoroprop-1-ene (also known as Solstice™ 1233zd(E)) to the list of compounds excluded from the definition of VOCs on the basis that the compound makes a negligible contribution to tropospheric ozone formation. Because EPA received one adverse comment, we are withdrawing the direct final rule.

DATES: Effective April 18, 2013, the EPA withdraws the direct final rule amendments published at 78 FR 11101 on February 15, 2013.

FOR FURTHER INFORMATION CONTACT: David Sanders, Office of Air Quality Planning and Standards, Air Quality Policy Division, Mail Code C539-01, Research Triangle Park, NC 27711; telephone: (919) 541-3356; fax: (919) 541-0824; email address: sanders.dave@epa.gov.

SUPPLEMENTARY INFORMATION: EPA published in the Federal Register a direct final rule at 78 FR 11101 and a parallel proposed rule at 78 FR 11119 on February 15, 2013, to revise the definition of VOCs for purposes of preparing SIPs to attain the NAAQS for ozone under title I of the CAA. If it had become effective, this direct final action would have added Solstice™ 1233zd(E) to the list of compounds excluded from the definition of VOCs on the basis that the compound makes a negligible contribution to tropospheric ozone formation.

The direct final rulemaking action announced that the direct final rule would be withdrawn if EPA received any adverse comments by April 1, 2013. The EPA received one adverse comment in a timely manner. With this notice, EPA is withdrawing the February 15, 2013, direct final rulemaking action pertaining to the exemption of Solstice™ 1233zd(E) from the VOC definition. All public comments that were received will be addressed in a final rulemaking action based on the proposed rule.

List of Subjects in 40 CFR Part 51

Environmental protection, Administrative practice and procedure, Air pollution control, Ozone, Reporting and recordkeeping requirements, Volatile organic compounds.

Dated: April 10, 2013.
Bob Perciasepe,
Acting Administrator.

[FR Doc. 2013-09156 Filed 4-17-13; 8:45 am]

BILLING CODE 6560-50-P